DEPARTMENT OF THE INTERIOR

Fish and Wildlife Service

50 CFR Part 17

Endangered and Threatened Wildlife and Plants; Re-opening of the Public Comment Period for Status Review of the Yellow-Billed Cuckoo in the Western United States

AGENCY: Fish and Wildlife Service, Interior.

ACTION: Status Review; notice of the re-opening of comment period.

SUMMARY: On February 17, 2000, the U.S. Fish and Wildlife Service (we), announced a 90-day finding on a petition to list the yellow-billed cuckoo (Coccyzus americanus) as endangered, pursuant to the Endangered Species Act (Act) of 1973, as amended (65 FR 8104). We found that the petition presented substantial information indicating that the listing of the yellow-billed cuckoo may be warranted. At that time, we initiated a status review for the yellow-billed cuckoo and announced that a 12-month finding would be prepared at the conclusion of the review.

DATES: Comments and materials related to this petition may be submitted on or before February 8, 2001.

ADDRESSES: Data, information, comments, or questions concerning this petition finding and status review should be submitted to the Field Supervisor, Sacramento Fish and Wildlife Office, 2800 Cottage Way, Room W-2605, Sacramento, California 95825. The petition, finding, and supporting data and comments will be available for public inspection, by appointment, during normal business hours at the above address.

FOR FURTHER INFORMATION CONTACT: Dwight Harvey or Stephanie Brady at the Sacramento Fish and Wildlife Office (see ADDRESSES section above), or at 916/414-6600.

SUPPLEMENTARY INFORMATION: Section 4(b)(3)(A) of the Endangered Species Act (Act) of 1973, as amended (16 U.S.C. 1531 et seq.), requires that we make a finding on whether a petition to list, delist, or reclassify a species presents substantial scientific or commercial information indicating that the petitioned action may be warranted. To the maximum extent practicable, this finding is to be made within 90 days of the receipt of the petition, and the finding is to be published promptly in the Federal Register. If the finding is that substantial information was presented, we are also required to promptly commence a review of the status of the involved species. The Act requires that we make this finding within 12 months of the receipt of the petition.

On February 17, 2000, we announced a 90-day finding for a petition to list the yellow-billed cuckoo under the Act (65 FR 8104). In addition, the petition asked that since the yellow-billed cuckoo is endangered in a significant portion of it's range (i.e., the western United States) and that this range represents the range of a valid subspecies, the western yellow-billed cuckoo, they would concur with a decision to list only this subspecies. In that finding, we found that the petition presented substantial information indicating that the listing of the western yellow-billed cuckoo subspecies (Coccyzus americanus occidentalis) may be warranted, although the taxonomy of this subspecies is unclear.

At this time, we continue to seek additional data, information or comments on yellow-billed cuckoos in the western U.S. from the public, other concerned government agencies, the scientific community, industry or any other interested persons. We are also interested in information from throughout the potential breeding range in Canada, Mexico and the overwintering range in Central and South America.

Public Comments Solicited

Of particular interest is information regarding:

1. Subspecies taxonomy and geographic variation in the species, in the form of genetic, behavioral, physiological, morphological, and/or ecological data which might be used to evaluate subspecies and the distinctness of population segments;

2. Historic and current distribution in your area, region, or state, indicating breeding or wintering range;

3. Historic and current population estimates and/or trends in your area, region, or state. If known please indicate whether the population is increasing, stable, or decreasing, and the sources of this information;

4. Any ongoing research or monitoring efforts in your area, region, or state;

5. Summarize any threats in your area, and specifically address the following categories:

(a) Present or threatened destruction, modification, or curtailment of habitat;

(b) Overutilization for commercial, recreational, scientific, or educational purposes;

(c) Disease or predation;

(d) Inadequate regulatory mechanisms;

(e) Other natural or manmade factors affecting the species' continued existence;

6. Seasonal habitat requirements and habitat conditions in your area or region or state;

7. Relative abundance of cuckoos on private vs. public lands in your area, region or state;

8. Past, current and planned conservation efforts in your area, region, or state that may be beneficial to the species;

9. Any banding information that has not been sent to the Bird Banding Laboratory in Patuxent, Maryland.

Authority: The authority for this action is the Endangered Species Act of 1973, as amended (16 U.S.C. 1531 et seq.).

Dated: January 3, 2001.
Rowan W. Gould,
Acting Manager, U.S. Fish and Wildlife Service.

[FR Doc. 01-506 Filed 1-8-01; 8:45 am]

BILLING CODE 4310-55-P